DEPARTMENT OF AGRICULTURE

Forest Service

Boundary Establishment for the Presque Isle National Wild and Scenic River, Ottawa National Forest; Gogebic County, MI

AGENCY: Forest Service, USDA.

ACTION: Notice of availability.

SUMMARY: In accordance with Section 3(b) of the Wild and Scenic Rivers Act, the USDA Forest Service, Washington Office, is transmitting the final boundary of the Presque Isle National Wild and Scenic River to Congress.

FOR FURTHER INFORMATION CONTACT: Information may be obtained by contacting Bill Baer, Recreation Program Manager, Ottawa National Forest, E6248 US Hwy 2, Ironwood, MI 49938, (906) 932-1330, ext. 342.

SUPPLEMENTARY INFORMATION: The Presque Isle Wild and Scenic River boundary is available for review at the following offices: USDA Forest Service, Office of the Chief, 1400 Independence Avenue SW., Washington DC 20024; USDA Forest Service, Eastern Region, Suite 400, 626 East Wisconsin Avenue, Milwaukee, WI 53202 and; Ottawa National Forest, E6248 US Hwy 2, Ironwood, MI 49938. A detailed legal description is available upon request.

The Michigan Scenic River Act of 1992 (Pub. L. 102-249-March 3, 1992) designated the Presque Isle River, Michigan, as a National Wild and Scenic River, to be administered by the Secretary of Agriculture. As specified by law, the boundary will not be effective until ninety days after Congress receives the transmittal.

Dated: March 7, 2012.
Anthony V. Scardina,
Forest Supervisor.

[FR Doc. 2012-7560 Filed 3-28-12; 8:45 am]

BILLING CODE 3410-11-P